DEPARTMENT OF COMMERCE

National Oceanic and Atmospheric Administration

RIN 0648-XE815

Marine Mammals; File Nos. 19315 and 19674

AGENCY: National Marine Fisheries Service (NMFS), National Oceanic and Atmospheric Administration (NOAA), Commerce.

ACTION: Notice; receipt of applications.

SUMMARY: Notice is hereby given that the Center for Coastal Studies, Right Whale Ecology Program, 5 Holway Avenue, P.O. Box 1036, Provincetown, MA 02657 [Responsible Party: Richard Delaney] and Scott Kraus, Ph.D., New England Aquarium, Edgerton Research Lab, Central Wharf, Boston MA 02110 have applied in due form for a permit to take 22 species of cetaceans and pinnipeds, including endangered North Atlantic right (Eubalaena glacialis), humpback (Megaptera novaeangliae), fin (Balaenoptera physalus), blue (B. musculus), sei (B. borealis), bowhead (Balaena mysticetus), and sperm (Physeter macrocephalus) whales, for purposes of scientific research.

DATES: Written, telefaxed, or email comments must be received on or before September 28, 2016.

ADDRESSES: The application and related documents are available for review by selecting “Records Open for Public Comment” from the “Features” box on the Applications and Permits for Protected Species (APPS) home page, https://apps.nmfs.noaa.gov, and then selecting File No. 19315 (Center for Coastal Studies) or File No. 19674 (Kraus) from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Sara Young, (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

File No. 19315: The applicant requests a five-year scientific research permit to monitor right whale demographics, life history traits, habitat use, and behavior in Atlantic coastal waters from the Mid-Atlantic Bight to the Gulf of Maine. Annually, up to 1,500 right whales would be approached by aircraft for photo-identification and behavioral observation; up to 700 right whales would be approached by vessel for these activities and prey mapping; and up to 10 whales would be suction-cup tagged. Opportunistic sighting data and photographs would be collected for bowhead whales and up to 20 other cetacean and pinniped species and unidentified dolphins and whales could be incidentally harassed and photographed annually during surveys.

File No. 19674: Dr. Kraus requests a five-year scientific research permit to assess, quantify, and track trends in the demographic characteristics of right whales, and to identify, quantify and monitor the long term trends in anthropogenic impacts on the species. Up to 500 right whales would be approached annually by vessel or aircraft for photo-identification, behavioral observation, and blow and fecal sampling; up to 50 additional non-neonate whales would be photographed and biopsy sampled annually. Biological samples from up to 50 whales could be received, imported or exported annually. During vessel surveys up to 20 animals of each species of humpback whales, fin whales, harbor porpoise (Phocoena phocoena) and Atlantic white-sided dolphins (Lagenorhynchus acutus) could be incidentally harassed annually.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: August 18, 2016.
Nicole R. Le Boeuf,
Acting Deputy Director, Office of Protected Resources National Marine Fisheries Service.

[FR Doc. 2016-20597 Filed 8-26-16; 8:45 am]

BILLING CODE 3510-22-P